ELECTION ASSISTANCE COMMISSION

Sunshine Act Notice

AGENCY: United States Election Assistance Commission (EAC).

ACTION: Amended Notice of Virtual Public Forum for EAC Board of Advisors.

Date and Time: Monday, July 2, 2007, 7 a.m. EDT through Friday, July 6, 2007, 6 p.m. EDT.

Place: EAC Board of Advisors Virtual Meeting Room at www.eac.gov. Once at the main page of EAC's Web site, viewers should click the link to the Board of Advisors Virtual Meeting Room. The virtual meeting room will open on Monday, July 2, 2007, at 7 a.m. EDT and will close on Friday, July 6, 2007, at 9 p.m. EDT. The site will be available 24 hours per day during that 5-day period.

Purpose: The EAC Board of Advisors will review and provide comment on a draft EAC manual on Poll Worker Recruitment, Training and Retention, and a draft EAC manual on Recruiting College Poll Workers. The draft manuals contains best practices suggestions. The EAC Board of Advisors virtual meeting room was established to enable the Board of Advisors to conduct business in an efficient manner in a public forum, including being able to review and discuss draft documents, when it is not feasible for an in-person board meeting. The Board of Advisors will not take any votes or propose any resolutions during the 5-day forum of July 2-6, 2007. Members will post comments about the draft EAC manual on Poll Worker Recruitment, Training and Retention.

Amendment: The original notice of this virtual public forum, which was published in the Federal Register on June 18, 2007, did not specify that there are two draft EAC manuals on pollworkers for review and comment. Therefore, the notice is being amended to clarify that, in addition to the draft EAC manual on Poll Worker Recruitment, Training and Retention, a draft EAC manual on Recruiting College Poll Workers will also be available for review and comment.

This activity is open to the public. The public may view the proceedings of this special forum by visiting the EAC Standards Board Virtual Meeting Room at www.eac.gov at any time between Monday, July 2, 2007, 7 a.m. EDT and Friday, July 6, 2007, 6 p.m. EDT. The public also may view the draft manual on poll worker recruitment, training and retention, which will be posted on EAC's Web site beginning July 2, 2007. The public may file written statements to the EAC Board of Advisors at boardofadvisors@eac.gov. Data on EAC's Web site is accessible to visitors with disabilities and meets the requirements of section 508 of the rehabilitation act.

FOR FURTHER INFORMATION CONTACT: Bryan Whitener, Telephone: (202) 566-3100.

Thomas R. Wilkey,
Executive Director, U.S. Election Assistance Commission.

[FR Doc. 07-3221 Filed 6-27-07; 3:32 pm]

BILLING CODE 6820-KF-M